DEPARTMENT OF COMMERCE

Foreign-Trade Zones Board

[B-51-2018]

Foreign-Trade Zone (FTZ) 189—Kent/Ottawa/Muskegon Counties, Michigan; Notification of Proposed Production Activity; Helix Steel; (Twisted Steel Micro Rebar); Grand Rapids, Michigan

The KOM Foreign Trade Zone Authority, grantee of FTZ 189, submitted a notification of proposed production activity to the FTZ Board on behalf of Helix Steel, located in Grand Rapids, Michigan. The notification conforming to the requirements of the regulations of the FTZ Board (15 CFR 400.22) was received on August 13, 2018.

The Helix Steel facility is located within Site 11 of FTZ 189. The facility is used for the production of twisted steel micro rebar. Pursuant to 15 CFR 400.14(b), FTZ activity would be limited to the specific foreign-status material/component and specific finished product described in the submitted notification (as described below) and subsequently authorized by the FTZ Board.

Production under FTZ procedures could exempt Helix Steel from customs duty payments on the foreign-status component used in export production. On its domestic sales, for the foreign-status material/component noted below, Helix Steel would be able to choose the duty rate during customs entry procedures that applies to twisted steel micro rebar (3.9%). Helix Steel would be able to avoid duty on foreign-status components which become scrap/waste. Customs duties also could possibly be deferred or reduced on foreign-status production equipment.

The material/component sourced from abroad is: 0.5 mm high-carbon electroplated zinc wire (duty-free). The request indicates that the material/component is subject to special duties under Section 232 of the Trade Expansion Act of 1962, if imported from certain countries. The Section 232 proclamation requires subject merchandise to be admitted to the zone in privileged foreign status (19 CFR 146.41).

Public comment is invited from interested parties. Submissions shall be addressed to the Board's Executive Secretary at the address below. The closing period for their receipt is October 1, 2018.

A copy of the notification will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Elizabeth Whiteman at Elizabeth.Whiteman@trade.gov or (202) 482-0473.

Dated: August 15, 2018.
Elizabeth Whiteman,
Acting Executive Secretary.

[FR Doc. 2018-17911 Filed 8-17-18; 8:45 am]

BILLING CODE 3510-DS-P